DEPARTMENT OF ENERGY

Federal Energy Regulatory Commission

Combined Notice of Filings #1

Take notice that the Commission received the following electric corporate filings:

Docket Numbers: EC23-43-000.

Applicants: Eight Point Wind, LLC, Elk City Renewables II, LLC, Great Prairie Wind, LLC, Sac County Wind, LLC, Sholes Wind, LLC, Yellow Pine Solar, LLC, Emerald Breeze Funding, LLC, Elk City Sholes Holdings, LLC, Sac County Wind Holdings, LLC, NextEra Energy Partners Acquisitions, LLC

Description: Joint Application for Authorization Under Section 203 of the Federal Power Act of Eight Point Wind, LLC, et al.

Filed Date: 12/19/22.

Accession Number: 20221219-5293.

Comment Date: 5 p.m. ET 1/9/23.

Take notice that the Commission received the following exempt wholesale generator filings:

Docket Numbers: EG23-37-000.

Applicants: Waco Solar, LLC.

Description: Waco Solar, LLC submits Notice of Self-Certification of Exempt Wholesale Generator Status.

Filed Date: 12/20/22.

Accession Number: 20221220-5127.

Comment Date: 5 p.m. ET 1/10/23.

Take notice that the Commission received the following electric rate filings:

Docket Numbers: ER10-2727-006; ER10-1451-008; ER10-1467-009; ER10-1469-009; ER10-1473-008; ER10-1474-008; ER10-1478-010; ER10-2687-008; ER10-2688-011; ER10-2689-011; ER10-2728-010; ER11-3907-002.

Applicants: The Toledo Edison Company, Green Valley Hydro, LLC, West Penn Power Company, The Potomac Edison Company, Monongahela Power Company, Pennsylvania Electric Company, Metropolitan Edison Company, Pennsylvania Power Company, The Cleveland Electric Illuminating Company, Ohio Edison Company, Jersey Central Power & Light, Allegheny Energy Supply Company, LLC.

Description: Triennial Market Power Analysis for Northwest Region of Allegheny Energy Supply Company, LLC, et al.

Filed Date: 12/16/22.

Accession Number: 20221216-5316.

Comment Date: 5 p.m. ET 2/14/23.

Docket Numbers: ER11-2447-005.

Applicants: Pacific Northwest Generating Cooperative, Inc.

Description: Triennial Market Power Analysis for Northwest Region of Pacific Northwest Generating Cooperative.

Filed Date: 12/20/22.

Accession Number: 20221220-5116.

Comment Date: 5 p.m. ET 2/20/23.

Docket Numbers: ER20-67-001; ER20-113-001; ER20-116-001.

Applicants: Evergy Metro, Inc., Evergy Missouri West, Inc., Evergy Kansas Central, Inc.

Description: Supplement to September 28, 2020 Notice of Change in Status of the Evergy MBR Sellers.

Filed Date: 12/19/22.

Accession Number: 20221219-5305.

Comment Date: 5 p.m. ET 1/9/23.

Docket Numbers: ER23-154-000.

Applicants: Carson Hybrid Energy Center LLC.

Description: Supplement to Carson Hybrid Energy Center LLC submits tariff filing Application for Market Based Rate Authority submitted for Carson Hybrid Energy Center LLC tariff filing.

Filed Date: 12/14/22.

Accession Number: 20221214-5237.

Comment Date: 5 p.m. ET 12/27/22.

Docket Numbers: ER23-277-001.

Applicants: Westlake US 2 LLC.

Description: Tariff Amendment: Amendment to Pending Filing in Docket ER23-277 to be effective 1/1/2023.

Filed Date: 12/20/22.

Accession Number: 20221220-5146.

Comment Date: 5 p.m. ET 1/3/23.

Docket Numbers: ER23-440-001.

Applicants: Southwest Power Pool, Inc.

Description: Tariff Amendment: 1518R24 Arkansas Electric Cooperative Corp NITSA NOA to be effective 11/1/2022.

Filed Date: 12/20/22.

Accession Number: 20221220-5141.

Comment Date: 5 p.m. ET 1/10/23.

Docket Numbers: ER23-575-000.

Applicants: Valley Electric Association, Inc.

Description: § 205(d) Rate Filing: Annual TRBAA Filing for 2023 to be effective 1/1/2023.

Filed Date: 12/8/22.

Accession Number: 20221208-5018.

Comment Date: 5 p.m. ET 12/29/22.

Docket Numbers: ER23-672-000.

Applicants: Southwest Power Pool, Inc.

Description: § 205(d) Rate Filing: 4039 Ponderosa Wind II & SPS Facilities Service Agreement to be effective 2/19/2023.

Filed Date: 12/20/22.

Accession Number: 20221220-5103.

Comment Date: 5 p.m. ET 1/10/23.

Docket Numbers: ER23-673-000.

Applicants: BHE Glacier Wind 1, LLC.

Description: § 205(d) Rate Filing: Revisions to MBR Tariffs to Reflect Mitigated Markets and Other Updates to be effective 11/9/2022.

Filed Date: 12/20/22.

Accession Number: 20221220-5126.

Comment Date: 5 p.m. ET 1/10/23.

Docket Numbers: ER23-674-000.

Applicants: BHE Wind Watch, LLC.

Description: § 205(d) Rate Filing: Revisions to MBR Tariffs to Reflect Mitigated Markets and Other Updates to be effective 11/9/2022.

Filed Date: 12/20/22.

Accession Number: 20221220-5128.

Comment Date: 5 p.m. ET 1/10/23.

Docket Numbers: ER23-675-000.

Applicants: BHE Rim Rock Wind, LLC.

Description: § 205(d) Rate Filing: Revisions to MBR Tariffs to Reflect Mitigated Markets and Other Updates to be effective 11/9/2022.

Filed Date: 12/20/22.

Accession Number: 20221220-5138.

Comment Date: 5 p.m. ET 1/10/23

Docket Numbers: ER23-676-000.

Applicants: BHE Power Watch, LLC.

Description: § 205(d) Rate Filing: Revisions to MBR Tariffs to Reflect Mitigated Markets and Other Updates to be effective 11/9/2022.

Filed Date: 12/20/22.

Accession Number: 20221220-5139.

Comment Date: 5 p.m. ET 1/10/23.

Docket Numbers: ER23-677-000.

Applicants: BHE Glacier Wind 2, LLC.

Description: § 205(d) Rate Filing: Revisions to MBR Tariffs to Reflect Mitigated Markets and Other Updates to be effective 11/9/2022.

Filed Date: 12/20/22.

Accession Number: 20221220-5140.

Comment Date: 5 p.m. ET 1/10/23.

Docket Numbers: ER23-678-000.

Applicants: The Narragansett Electric Company.

Description: § 205(d) Rate Filing: Re-Filing of Service Agmts and Amended Service Agmt Under Schedule 21-RIE to be effective 12/31/9998.

Filed Date: 12/20/22.

Accession Number: 20221220-5172.

Comment Date: 5 p.m. ET 1/10/23.

Docket Numbers: ER23-679-000.

Applicants: Consolidated Edison Company of New York, Inc.

Description: § 205(d) Rate Filing: Amendment BQDM Energy Storage 12-20-2022 to be effective 11/1/2022.

Filed Date: 12/20/22.

Accession Number: 20221220-5193.

Comment Date: 5 p.m. ET 1/10/23.

Docket Numbers: ER23-680-000.

Applicants: Sunfish Solar LLC.

Description: Petition for Limited Waiver, Motion to Consolidate Proceedings, and Request for Expedited Review of Sunfish Solar LLC.

Filed Date: 12/16/22.

Accession Number: 20221216-5318.

Comment Date: 5 p.m. ET 1/6/23.

Take notice that the Commission received the following electric securities filings:

Docket Numbers: ES23-19-000.

Applicants: International Transmission Company.

Description: Application Under Section 204 of the Federal Power Act for Authorization to Issue Securities of International Transmission Company.

Filed Date: 12/19/22.

Accession Number: 20221219-5294.

Comment Date: 5 p.m. ET 1/9/23.

Docket Numbers: ES23-20-000.

Applicants: ITC Midwest LLC.

Description: Application Under Section 204 of the Federal Power Act for Authorization to Issue Securities of ITC Midwest LLC.

Filed Date: 12/19/22.

Accession Number: 20221219-5295.

Comment Date: 5 p.m. ET 1/9/23.

Docket Numbers: ES23-21-000.

Applicants: Michigan Electric Transmission Company, LLC.

Description: Application Under Section 204 of the Federal Power Act for Authorization to Issue Securities of Michigan Electric Transmission Company, LLC.

Filed Date: 12/20/22.

Accession Number: 20221220-5118.

Comment Date: 5 p.m. ET 1/10/23.

Docket Numbers: ES23-22-000.

Applicants: ITC Great Plains, LLC.

Description: Application Under Section 204 of the Federal Power Act for Authorization to Issue Securities of ITC Great Plains, LLC.

Filed Date: 12/20/22.

Accession Number: 20221220-5119.

Comment Date: 5 p.m. ET 1/10/23.

Docket Numbers: ES23-23-000.

Applicants: PJM Interconnection, L.L.C.

Description: Application Under Section 204 of the Federal Power Act for Authorization to Issue Securities of PJM Interconnection, L.L.C.

Filed Date: 12/20/22.

Accession Number: 20221220-5131.

Comment Date: 5 p.m. ET 1/10/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 20, 2022.
Debbie-Anne A. Reese,
Deputy Secretary.

[FR Doc. 2022-28128 Filed 12-23-22; 8:45 am]

BILLING CODE 6717-01-P